FEDERAL DEPOSIT INSURANCE CORPORATION

Sunshine Act Meeting

Pursuant to the provisions of the “Government in the Sunshine Act” (5 U.S.C. 552b), notice is hereby given that the Federal Deposit Insurance Corporation's Board of Directors will meet in open session at 10:00 a.m. on Tuesday, October 17, 2000, to consider the following matters:

Summary Agenda

No substantive discussion of the following items is anticipated. These matters will be resolved with a single vote unless a member of the Board of Directors requests that an item be moved to the discussion agenda.

Report of actions taken pursuant to authority delegated by the Board of Directors

Memorandum and resolution re: Final Rule—Part 308—Rules of Practice and Procedure

Discussion Agenda

Memorandum and resolution re: Proposed Rule—Part 325—Capital Maintenance—Risk-Based Capital Treatment for Claims on Securities Firms

Memorandum and resolution re: Joint Advance Notice of Proposed Rulemaking—Part 325—Capital Maintenance—Simplified Capital Framework Applicable to Non-Complex Institutions

The meeting will be held in the Board Room on the sixth floor of the FDIC Building located at 550—17th Street, NW., Washington, DC.

The FDIC will provide attendees with auxiliary aids (e.g., sign language interpretation) required for this meeting. Those attendees needing such assistance should call (202) 416-2089 (Voice); (202) 416-2007 (TTY), to make necessary arrangements.

Requests for further information concerning the meeting may be directed to Mr. Robert E. Feldman, Executive Secretary of the Corporation, at (202) 898-6757.

Dated: October 10, 2000.
Federal Deposit Insurance Corporation.
Robert E. Feldman,
Executive Secretary.

[FR Doc. 00-26447 Filed 10-11-00; 10:11 am]

BILLING CODE 6714-01-M